DEPARTMENT OF DEFENSE

Department of the Army

[Docket ID: USA-2025-HQ-0135]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by January 28, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: Title; Associated Form; and OMB Number: Exchange Employee and Retirement Benefit System; Exchange Forms 1450-011 and 1700-012; OMB Control Number 0702-0139.

Type of Request: Extension.

Number of Respondents: 10,530.

Responses per Respondent: 1.

Annual Responses: 10,530.

Average Burden per Response: 20 minutes.

Annual Burden Hours: 3,510.

Needs and Uses: The information collection requirement is necessary to administer several different benefits, pay, and retirement entitlements to eligible Exchange associates, former associates (retirees), their dependents, beneficiaries, spouses, and ex-spouses.

Affected Public: Individuals or households.

Frequency: On occasion.

Respondent's Obligation: Voluntary.

DoD Clearance Officer: Mr. Reginald Lucas.

Dated: December 19, 2025.
Stephanie J. Bost,
Alternate OSD Federal Register Liaison Officer, Department of Defense.

[FR Doc. 2025-23788 Filed 12-23-25; 8:45 am]

BILLING CODE 6001-FR-P